DEPARTMENT OF COMMERCE

United States Patent and Trademark Office

Submission for OMB Review; Comment Request; Patent Cooperation Treaty

The United States Patent and Trademark Office (USPTO) will submit to the Office of Management and Budget (OMB) for clearance the following proposal for collection of information under the provisions of Paperwork Reduction Act (44 U.S.C. Chapter 35).

Agency: United States Patent and Trademark Office, Commerce.

Title: Patent Cooperation Treaty.

OMB Control Number: 0651-0021.

Form Numbers:

• PCT/RO/101

• PCT/RO/134

• PCT/IB/372

• PCT/IPEA/401

• PTO-1382

• PTO-1390

• PTO/SB/61/PCT

• PTO/SB/64/PCT

Type of Request: Revision of a currently approved collection.

Number of Respondents: 423,970 responses per year.

Average Hours per Response: The USPTO estimates that it will take the public approximately 0.25 hours (15 minutes) to 8 hours to gather the necessary information, prepare the appropriate form or documents, and submit the information to the USPTO.

Burden Hours: 364,830 burden hours per year.

Cost Burden: $149,380,300 per year.

Needs and Uses: The purpose of the Patent Cooperation Treaty (PCT) is to provide a standardized filing format and procedure that allows an applicant to seek protection for an invention in several countries by filing one international application in one location, in one language, and paying one initial set of fees. The information in this collection is used by the public to submit a patent application under the PCT and by the USPTO to fulfill its obligation to process, search, and examine the application as directed by the treaty.

Affected Public: Individuals or households; business or other for-profits; and not-for-profit institutions.

Frequency: On occasion.

Respondent's Obligation: Required to obtain or retain benefits.

OMB Desk Officer: Nicholas A. Fraiser, email: Nicholas_A._Fraiser@omb.eop.gov. Once submitted, the request will be publicly available in electronic format through reginfo.gov. Follow the instructions to view Department of Commerce collections currently under review by OMB.

Further information can be obtained by:

• Email: InformationCollection@uspto.gov. Include “0651-0021 copy request” in the subject line of the message.

• Mail: Marcie Lovett, Records Management Division Director, Office of the Chief Information Officer, United States Patent and Trademark Office, P.O. Box 1450, Alexandria, VA 22313-1450.

Written comments and recommendations for the proposed information collection should be sent on or before July 27, 2016 to Nicholas A. Fraiser, OMB Desk Officer, via email to Nicholas_A._Fraiser@omb.eop.gov, or by fax to 202-395-5167, marked to the attention of Nicholas A. Fraiser.

Dated: June 21, 2016.
Marcie Lovett,
Records Management Division Director, USPTO, Office of the Chief Information Officer.

[FR Doc. 2016-15108 Filed 6-24-16; 8:45 am]

BILLING CODE 3510-16-P